NATIONAL SCIENCE FOUNDATION

Proposal Review Panel for Engineering Education and Centers; Notice of Meeting

In accordance with the Federal Advisory Committee Act (Pub. L. 92-463, as amended), the National Science Foundation announces the following meeting:

Name: Proposal Review Panel for Engineering Education and Centers (#173).

Date and Time: March 27, 2012 7 p.m.-10 p.m. March 28, 2012 8 a.m.-5 p.m. March 29, 2012 8 a.m.-5 p.m. March 30, 2012 8 a.m.-4:30 p.m.

Place: University of California—Berkeley, Berkeley, CA 94720.

To view the open session, attendees will need to go to the UC Berkeley campus, Stanley Hall, Room 106, 8-9 a.m. Pacific. Please contact Kevin Costa for the Close Circuit TV broadcast at kcosta@berkeley.edu or (510) 486-7568.

Type of Meeting: Part-Open.

Contact: Theresa Good, Program Director, National Science Foundation, Stafford I Room 585 Arlington, Virginia 22230 (703) 292-8380.

Purpose of Meeting: NSF site visit to conduct a renewal review during year 6 of the award period as stipulated in the cooperative agreement.

Agenda

Tuesday, March 27, 2012

7 p.m.-10 p.m. Closed—Executive Session—Site Visit Team Meeting

Wednesday, March 28, 2012

8 a.m.-9 a.m. Open via Close Circuit TV—(POC for broadcast is: Kevin Costa kcosta@berkeley.edu) Welcome, introductions and Overview of Center

9 a.m.-3:30 p.m. Closed—ERC Research Program

3:30 p.m.—7:30 p.m. Closed—ERC Education Program

Thursday, March 29, 2012

8 a.m.-9 a.m. Closed—Executive Session on Infrastructure

9 a.m.-3:30 p.m. Closed—ERC Testbeds

3:30 a.m.-4 p.m. Closed—ERC Infrastructure

4 p.m.-5:30 p.m. Closed—ERC Industry

Friday, March 30, 2012

8 a.m.-9 a.m. Closed—Executive Session, Review

9 a.m.-4:30 p.m. Closed—Executive Session, review and drafting site visit report

Reason for Late Notice: The meeting had been announced earlier on NSF's Web site. The Agency has since determined that a portion of this meeting should be open.

Reason for Closing: Topics to be discussed and evaluation during the site review will include information of a proprietary of confidential nature, including technical information; and information on personnel. These matters are exempt under 5 U.S.C. 552b(c)(4) and (6) of the Government Sunshine Act.

Dated: March 21, 2012.
Susanne E. Bolton,
Committee Management Officer.

[FR Doc. 2012-7259 Filed 3-26-12; 8:45 am]

BILLING CODE 7555-01-P